DEPARTMENT OF TRANSPORTATION

Federal Aviation Administration

14 CFR Part 71

[Airspace Docket No. 02-ASO-4]

Establishment of Class D Airspace; Greenville Donaldson Center, SC, Amendment of Class E2 Airspace; Greer, Greenville-Spartanburg Airport SC, and Amendment of Class E5 Airspace; Greenville, SC

AGENCY: Federal Aviation Administration (FAA), DOT.

ACTION: Final rule; delay of effective date.

SUMMARY: This action delays indefinitely the establishment of Class D airspace at Greenville Donaldson Center, SC, the amendment of Class E2 airspace at Greer, Greenville-Spartanburg Airport, SC, and the amendment of Class E5 airspace at Greenville, SC. The construction of a new federal contract tower with a weather reporting system has been delayed, with an uncertain completion date; therefore, the effective date of the establishment of Class D airspace and amendment of Class E airspace must also be delayed indefinitely.

EFFECTIVE DATE: The effective date of the final rule published May 1, 2002, at 67 FR 21575 (0901 UTC, November 28, 2002) is delayed indefinitely.

FOR FURTHER INFORMATION CONTACT: Walter R. Cochran, Manager, Airspace Branch, Air Traffic Division, Federal Aviation Administration, P.O. Box 20636, Atlanta, GA 30320; telephone (404) 305-5586.

SUPPLEMENTARY INFORMATION:

History

Airspace Docket No. 02-ASO-04, published in the Federal Register on May 1, 2002, (67 FR 21575), established Class D airspace at Greenville Donaldson Center, SC, amended Class E2 airspace at Greer, Greenville-Spartanburg Airport, SC, and amended Class E5 airspace at Greenville, SC. The construction of a federal contract tower with a weather reporting system at Donaldson Center Airport made this action necessary. This action was originally scheduled to become effective on November 28, 2002; however, an unforeseen delay in beginning construction on the tower has required the effective date of this action to be delayed. Construction is now scheduled to begin in January 2003, with an anticipated date of September 2003. A notice announcing a new effective date will be published in the Federal Register at least 90 days prior to the new effective date.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Delay of Effective Date

The effective date on Airspace Docket No. 02-ASO-04 is hereby delayed indefinitely.

Authority: 49 U.S.C. app. 1348(a), 1354(a), 1510, E.O. 10854, 24 FR 9565, 3 CFR, 1959-1963 Comp., p. 389; 49 U.S.C. 106(g); 14 CFR 11.69.

* * * * *

Issued in College Park, Georgia, on October 17, 2002.
Walter R. Cochran,
Acting Manager, Air Traffic Division, Southern Region.

[FR Doc. 02-27174 Filed 10-28-02; 8:45 am]

BILLING CODE 4910-13-M